DEPARTMENT OF ENERGY

Federal Energy Regulatory Commission

[Docket No. PF09-15-000]

Dominion Transmission, Inc.; Notice of Intent To Prepare an Environmental Assessment for the Planned Appalachian Gateway Project and Request for Comments on Environmental Issues

December 4, 2009.

The staff of the Federal Energy Regulatory Commission (FERC or Commission) will prepare an environmental assessment (EA) that will discuss the environmental impacts of the Appalachian Gateway Project involving construction and operation of facilities by Dominion Transmission, Inc. (DTI) in northeastern West Virginia (WV) and southwestern Pennsylvania (PA). The EA will be used by the Commission in its decision-making process to determine whether the project is in the public convenience and necessity.

This notice announces the opening of the scoping process we ¹ will use to gather input from the public and interested agencies on the project. Your input will help the Commission staff determine what issues need to be evaluated in the EA. Please note that the scoping period will close on February 3, 2010.

¹ “We,” “us,” and “our” refer to environmental staff of the Office of Energy Projects (OEP).

Comments may be submitted in written form or verbally. Further details on how to submit written comments are provided in the public participation section of this notice. Comments may be submitted verbally during public scoping meetings, which will be scheduled for late January 2010. Another notice will be distributed to announce the dates and locations of the public scoping meetings.

This notice is being sent to the Commission's current environmental mailing list for this project, which includes affected landowners; federal, state, and local government representatives and agencies; elected officials; environmental and public interest groups; Native American Tribes; other interested parties; and local libraries and newspapers. State and local government representatives are asked to notify their constituents of this planned project and encourage them to comment on their areas of concern.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov/for-citizens/citizen-guides.asp). This fact sheet addresses a number of typically asked questions, including the use of eminent domain and how to participate in the Commission's proceedings.

Summary of the Planned Project

DTI plans to construct and operate approximately 110 miles of 20-, 24-, and 30-inch diameter natural gas pipeline and associated aboveground facilities in northeastern West Virginia and southwestern Pennsylvania. According to DTI, its project would provide about 484,260 dekatherms of natural gas per day of firm transportation services from increasing gas production in the Appalachian region of West Virginia and Pennsylvania to the east coast markets.

The Appalachian Gateway Project would consist of the following facilities:

• Approximately 43.1 miles of 30-inch diameter pipeline in Marshall County, WV and Greene County, PA;

• Approximately 54.2 miles of 24-inch diameter pipeline in Greene, Washington, Allegheny, and Westmoreland Counties, PA;

• Approximately 5.2 miles of 20-inch diameter pipeline loop in Kanawha County, WV and 6 miles of 24-inch diameter pipeline loop in Greene County, PA; ²

² A pipeline loop is constructed parallel to an existing pipeline to increase capacity.

• A total of approximately 1.5 miles of various diameter discharge and suction pipelines to serve the Lewis-Wetzel Compressor Station (Wetzel County, WV) and the Morrison Compressor Station (Harrison County, WV);

• Two new compressor stations on new sites: Burch Ridge Station (Marshall County, WV) with approximately 6,130 horsepower (HP) and Morrison Station (Harrison County, WV) with approximately 1,775 HP;

• Two new compressor stations on existing sites: Chelyan Station (Kanawha County, WV) with approximately 4,735 HP and Lewis Wetzel Station (Wetzel County, WV) with approximately 3,550 HP;

• A new metering and regulation facility at the existing Oakford Compressor Station in Westmoreland County, PA; and

• Upgrades and minor additions to other existing facilities in Wyoming, Doddridge, McDowell, and Barbour Counties, WV.

The general location of the project facilities is shown in Appendix 1.³

³ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

Construction of the planned facilities would disturb about 1,612 acres of land for the aboveground facilities and the pipeline. Following construction, about 785 acres would be maintained for permanent operation of the project's facilities; the remaining acreage would be restored and allowed to revert to former uses. About 80 percent of the planned pipeline route parallels existing pipeline, utility, or road rights-of-way.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this notice, the Commission requests public comments on the scope of the issues to address in the EA. All comments received will be considered during the preparation of the EA. To ensure your comments are considered, please carefully follow the instructions in the Public Participation section of this notice, beginning on page 5.

In the EA we will discuss impacts that could occur as a result of the construction and operation of the planned project under these general headings:

• Geology and soils;

• Land use, recreation and visual resources;

• Water resources, fisheries, and wetlands;

• Cultural resources;

• Vegetation and wildlife;

• Air quality and noise;

• Endangered and threatened species;

• Hazardous waste;

• Public safety; and

• Cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before an application is filed with the FERC. As part of our pre-filing review, we have begun to contact some federal and state agencies to discuss their involvement in the scoping process and the preparation of the EA.

Our independent analysis of the issues will be presented in the EA. Depending on the comments received during the scoping process, the EA may be published and mailed to those on our environmental mailing list (see discussion of how to remain on our mailing list on page 6). A comment period will be allotted for review of the EA if it is published. We will consider all comments on the EA before we make our recommendations to the Commission.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Currently Identified Environmental Issues

Based on a preliminary review of the planned facilities and the environmental information provided by DTI, we have identified potential visual and land use impacts that we think deserve attention. DTI anticipates that longwall coal mining may proceed beneath the pipeline at some point in the future. Mitigation measures that DTI would take to maintain the integrity of its pipeline may require unearthing the pipeline post-construction to conduct stress tests, which could in turn impact both land use and visual resources. Additional issues may be included in our analysis based on your comments.

Public Participation

You can make a difference by providing us with your specific comments or concerns about the project. Your comments should focus on the potential environmental effects, reasonable alternatives, and measures to avoid or lessen environmental impacts. The more specific your comments, the more useful they will be. To ensure that your written comments are timely and properly recorded, please send in your comments so that they will be received in Washington, DC on or before February 3, 2010.

For your convenience, there are three methods which you can use to submit your written comments to the Commission. The Commission encourages electronic filing of comments and has expert eFiling staff available to assist you at 202-502-8258 or efiling@ferc.gov.

(1) You may file your comments electronically by using the Quick Comment feature, which is located at http://www.ferc.gov under the link called “Documents and Filings”. A Quick Comment is an easy method for interested persons to submit text-only comments on a project;

(2) You may file your comments electronically by using the “eFiling” feature that is listed under the “Documents and Filings” link. eFiling involves preparing your submission in the same manner as you would if filing on paper, and then saving the file on your computer's hard drive. You will attach that file to your submission. New eFiling users must first create an account by clicking on the links called “Sign up” or “eRegister”. You will be asked to select the type of filing you are making. A comment on a particular project is considered a “Comment on a Filing”; or

(3) You may file your comments with the Commission via mail by sending an original and two copies of your letter to: Kimberly D. Bose, Secretary, Federal Energy Regulatory Commission, 888 First Street, NE., Room 1A, Washington, DC 20426.

In all instances, please reference the project docket number PF09-15-000 with your submission. Label one copy of the comments for the attention of Gas Branch 3, PJ-11.3.

Environmental Mailing List

An effort is being made to send this notice to all individuals, organizations, and government entities interested in and/or potentially affected by the planned project. This includes all landowners who are potential right-of-way grantors, whose property may be used temporarily for project purposes, or who own homes within certain distances of aboveground facilities (as defined in the Commission's regulations).

If you do not want to send comments at this time but still want to remain on our mailing list, please return the Mail List Retention Form (Appendix 2). If you do not return the Mail List Retention Form, you will be taken off the mailing list.

Becoming an Intervenor

Once DTI files its application with the Commission, you may want to become an “intervenor”, which is an official party to the Commission's proceeding. Intervenors play a more formal role in the process and are able to file briefs, appear at hearings, and be heard by the courts if they choose to appeal the Commission's final ruling. An intervenor formally participates the proceeding by filing a request to intervene. Instructions for becoming an intervenor are included in the User's Guide under the “e-filing” link on the Commission's Web site. Please note that you may not request intervenor status at this time. You must wait until a formal application for the project is filed with the Commission.

Additional Information

Additional information about the project is available from the Commission's Office of External Affairs, at 1-866-208-FERC or on the FERC Web site (http://www.ferc.gov) using the eLibrary link. Click on the eLibrary link, click on “General Search” and enter the docket number, excluding the last three digits, in the Docket Number field (i.e., PF09-15). Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-29617 Filed 12-11-09; 8:45 am]

BILLING CODE 6717-01-P